SECURITIES AND EXCHANGE COMMISSION

17 CFR Part 210

[Release No. 33-9929A; 34-75985A; IC-31849A; File No. S7-20-15]

RIN 3235-AL77

Request for Comment on the Effectiveness of Financial Disclosures About Entities Other Than the Registrant

AGENCY: Securities and Exchange Commission.

ACTION: Request for comment; correction.

SUMMARY: The Securities and Exchange Commission published a document in the Federal Register of October 1, 2015, seeking public comment regarding the financial disclosure requirements in Regulation S-X for certain entities other than a registrant. The RIN was omitted from this document. This correction is being published to add the RIN to that document.

FOR FURTHER INFORMATION CONTACT: Todd E. Hardiman, Associate Chief Accountant, at (202) 551-3516, Division of Corporation Finance; Duc Dang, Special Counsel, at (202) 551-3386, Office of the Chief Accountant; or Matthew Giordano, Chief Accountant, at (202) 551-6892, Division of Investment Management, Securities and Exchange Commission, 100 F Street NE., Washington, DC 20549.

Correction

In the Federal Register of October 1, 2015, in FR Doc. 2015-24875, on page 59083, in the second column, in the heading of the document, the RIN is added to read as 3235-AL77.

Dated: October 7, 2015.
Brent J. Fields,
Secretary.

[FR Doc. 2015-25948 Filed 10-9-15; 8:45 am]

BILLING CODE 8011-01-P